DEPARTMENT OF ENERGY

Proposed Agency Information Collection Extension

AGENCY: U.S. Department of Energy.

ACTION: Notice and request for comments.

SUMMARY: The Department of Energy (DOE), pursuant to the Paperwork Reduction Act of 1995, intends to extend for three years an information collection request with the Office of Management and Budget (OMB). Comments are invited on: (a) Whether the extended collection of information is necessary for the proper performance of the functions of the agency; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 15, 2018. If you anticipate difficulty in submitting comments within that period, contact the person listed in ADDRESSES as soon as possible.

ADDRESSES: Written comments may be sent to Andrea Lachenmayr, U.S. Department of Energy, LPO-70, Room 4B-170, 1000 Independence Avenue SW, Washington, DC 20585 or by email to LPO.PaperworkReductionAct.Comments@hq.doe.gov.

FOR FURTHER INFORMATION CONTACT: Requests for additional information or copies of the information collection instrument and instructions should be directed to Andrea Lachenmayr, LPO.PaperworkReductionAct.Comments@hq.doe.gov.

SUPPLEMENTARY INFORMATION: This information collection request contains: (1) OMB No.: 1910-5134; (2) Information Collection Request Title: DOE Loan Guarantees for Energy Projects; (3) Type of Request: Extension (4) Purpose: This information collection package covers collection of information necessary to evaluate applications for loan guarantees submitted under Title XVII of the Energy Policy Act of 2005, as amended, 16516 (Title XVII), 42 U.S.C. 16511, and under Section 2602(c) of the Energy Policy Act of 1992, as amended (TELGP), 25 U.S.C. 3502(c). Because the information collection package pertains to applications for loan guarantees under both Title XVII and TELGP (the latter of which does not require innovative technology), the Information Collection Request Title is being changed from its original title, “10 CFR part 609—Loan Guarantees for Projects that Employ Innovative Technologies” to its new title, “DOE Loan Guarantees for Energy Projects.” This title is more descriptive of the purpose of the Information Collection Request. Applications for loan guarantees submitted to DOE in response to a solicitation under Title XVII or TELGP must contain certain information. This information will be used to analyze whether a project is eligible for a loan guarantee and to evaluate the application under criteria specified in the final regulations implementing Title XVII, located at 10 CFR part 609, and adopted by DOE for purposes of TELGP, with certain immaterial modifications and omissions. The collection of this information is critical to ensure that the government has sufficient information to determine whether applicants meet the eligibility requirements to qualify for a DOE loan guarantee under Title XVII or TELGP, as the case may be, and to provide DOE with sufficient information to evaluate an applicant's project using the criteria specified in 10 CFR part 609 (for Title XVII applications) or the applicable solicitation (for TELGP applications); (5) Annual Estimated Number of Respondents: 20 Applications; (6) Annual Estimated Number of Total Responses: It is estimated that the total number of annual responses will not exceed 20; (7) Annual Estimated Number of Burden Hours: 2,650 hours, most of which is likely to be time committed by firms that seek debt and/or equity financing for their projects, regardless of their intent to apply for a DOE loan guarantee; (8) Annual Estimated Reporting and Recordkeeping Cost Burden: It is estimated that the annual estimated reporting and recordkeeping cost burden for applicants will not exceed $26,296 per annum, per applicant.

Authority: Title XVII and TELGP authorize the collection of information.

Signed in Washington, DC, on August 9, 2018.
John Sneed,
Executive Director, Department of Energy Loan Programs Office.

[FR Doc. 2018-17553 Filed 8-14-18; 8:45 am]

BILLING CODE 6450-01-P